DEPARTMENT OF AGRICULTURE

Food and Nutrition Service

Agency Information Collection Activities: Proposed Collection; Comment Request—FNS 245—SNAP Quality Control Regulations

AGENCY: Food and Nutrition Service (FNS), USDA.

ACTION: Notice.

SUMMARY: In accordance with the Paperwork Reduction Act of 1995, this notice invites the general public and other public agencies to comment on this proposed information collection. This is a revision of a currently approved information collection request.

DATES: Written comments must be received on or before March 4, 2021.

ADDRESSES: Comments may be sent to Stephanie Proska, Food and Nutrition Service, U.S. Department of Agriculture, 1320 Braddock Place, Room 05.5040, Alexandria, VA 22314. Comments may also be submitted via email to SNAPHQ-WEB@fns.usda.gov. Comments will also be accepted through the Federal eRulemaking Portal. Go to http://www.regulations.gov, and follow the online instructions for submitting comments electronically. All responses to this notice will be summarized and included in the request for Office of Management and Budget approval. All comments will be a matter of public record.

FOR FURTHER INFORMATION CONTACT: Requests for additional information or copies of this information collection should be directed to Stephanie Proska at 703-305-2437.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Supplemental Nutrition Assistance Program (SNAP).

OMB Number: 0584-0034.

Expiration Date: April 30, 2021.

Type of Request: Revision of a currently approved collection.

Abstract: The FNS-245, Negative Case Action Review Schedule, is designed to collect quality control (QC) data and serve as the data entry form for negative case action QC reviews in the Supplemental Nutrition Assistance Program (SNAP). State agencies complete the FNS-245 for each negative case in their QC sample. The reporting and recordkeeping burden associated with the completion of the FNS-245 has decreased from approximately 115,514.87 hours to 102,001 hours. The 13,513.87 hour decrease in the total burden is largely a result of the decrease in total SNAP negative case selections from 38,970 cases in FY 2015 to 34,322 cases in FY 2018.

Reg. section | Affected public | Description of activity | Estimated number of respondents | Estimated responses per respondent | Total annual responses | Number of burden hours per response | Estimated total burden hours
Reporting Burden
Reporting Burden for State Agencies FNS 245, OMB 0584-0034
275.13 (b) | State Agencies | Household Case Record Review | 53 | 647.5849 | 34,322.00 | 1.75 | 60,063.50
275.12 (b) | State Agencies | Variance identification | 53 | 647.5849 | 34,322.00 | 0.6906 | 23,702.77
275.13 (c) | State Agencies | Error analysis | 53 | 647.5849 | 34,322.00 | 0.5 | 17,161.00
Grand Totals Reporting Burden | 53.00 |  | 102,966.00 | 2.9406 | 100,927.27
Record Keeping Burden
Recordkeeping Burden for State Agencies FNS 245, OMB 0584-0034
275.4 | State Agencies | Record Retention | 53 | 647.5849 | 34,322 | 0.0236 | 1,073.73
Overall Grand Total Reporting and Recordkeeping | 53.00 |  | 137,288.00 | 2.96 | 102,001.00

Affected Public: State, Local and Tribal Government.

Estimated Number of Respondents: 53 State Agencies.

Estimated Number of Responses per Respondent: 647.59.

Estimated Total Annual Responses: 102,966.

Estimated Time per Response: 2.9406 hours.

Estimated Total Burden Hours: 100,927.27.

Number of Record Keepers: 53.

Number of Records per Record Keeper: 647.59 Records.

Estimated Number of Records/Response to Keep: 34,322 Records.

Recordkeeping Time per Response: .0236 hours.

Total Estimated Recordkeeping Burden Hours: 1,073.73 hours.

Estimated Total Annual Reporting and Recordkeeping Burden on Respondents: 137,288 hours.

Pamilyn Miller,
Administrator, Food and Nutrition Service.

[FR Doc. 2020-29005 Filed 12-31-20; 8:45 am]

BILLING CODE 3410-30-P